LEGAL SERVICES CORPORATION

Sunshine Act Meeting of the Board of Directors

Time and Date: The Legal Services Corporation Board of Directors will meet on February 20, 2008, via conference call. The meeting will begin at 3 p.m., (EDT), and continue until conclusion of the Board's agenda.

Location: 3333 K Street, NW., Washington, DC 20007, 3rd Floor Conference Center.

Status of Meeting: Open. Directors will participate by telephone conference in such a manner as to enable interested members of the public to hear and identify all persons participating in the meeting. Members of the public wishing to observe the meeting may do so by joining participating staff at the location indicated above. members of the public wishing to listen to the meeting by telephone should call 1-888-390-6586 and enter 30819 on the keypad when prompted. To enhance the quality of your listening experience, as well as that of others, and to eliminate background noises that interfere with the audio recording of the proceeding, please mute you telephone during the meeting.

Matters To Be Considered

1. Consider and act on adoption of agenda

2. Consider and act on proposed LSC Code of Ethics and Conduct

3. Consider and act on whether to authorize the filing of an application to the District of Columbia for registration to undertake charitable solicitations

4. Report on the work of the Board's Ad Hoc Committee

5. Consider and act on other business

6. Consider and act on motion to adjourn the meeting

FOR FURTHER INFORMATION CONTACT: Contact Person for Further Information: Patricia Batie, Manager of Board Operations, at (202) 295-1500.

Special Needs: Upon request, meeting notices will be made available in alternate formats to accommodate visual and hearing impairments. Individuals who have a disability and need an accommodation to attend the meeting may notify Patricia Batie at (202) 295-1500.

February 13, 2008.
Victor M. Fortuno,
Vice President, General Counsel and Corporate Secretary.

[FR Doc. 08-758 Filed 2-13-08; 4:55 pm]

BILLING CODE 7050-01-M